DEPARTMENT OF HEALTH AND HUMAN SERVICES

Centers for Disease Control and Prevention

Notice of Award of a Single-Source Cooperative Agreement To Fund the Ethiopian Public Health Institute

AGENCY: Centers for Disease Control and Prevention (CDC), Department of Health and Human Services (HHS).

ACTION: Notice.

SUMMARY: The Centers for Disease Control and Prevention (CDC), within the Department of Health and Human Services (HHS), announces the award of approximately $12,000,000, for Year 1 funding to the Ethiopian Public Health Institute (EPHI). The award will address gaps identified in national HIV laboratory and surveillance systems and pave the way for HIV epidemic control in Ethiopia.

DATES: The period for this award will be September 30, 2023, through September 29, 2028. Funding amounts for years 2-5 will be set at continuation.

FOR FURTHER INFORMATION CONTACT: Yared Tedla, Center for Global Health, Centers for Disease Control and Prevention, U.S. Embassy, P.O. Box 1014, Addis Ababa, Ethiopia, Telephone: 404.718.4293, E-Mail: xzj9@cdc.gov.

SUPPLEMENTARY INFORMATION: The single-source award will support an integrated laboratory system for multiplexing testing of HIV, TB, and other pathogens in an optimized diagnostic network using point-of-care or conventional platforms. Routine viral load monitoring will be scaled up to reach all eligible clients on treatment, with consideration of alternate specimen collection modalities, and cold chain infrastructure.

The Ethiopian Public Health Institute (EPHI) is in a unique position to conduct this work, as it is the sole federal government agency accountable to the Ministry of Health (MOH) that is mandated to oversee and coordinate the following main areas of work: undertake research; generate, absorb and disseminate scientific knowledge to improve public health; conduct surveillance for detection and monitoring of public health risks; ensure adequate response to public health emergencies; and strengthen national laboratory capacity to support effective public health responses, carryout diagnostic and analytical tests, and build laboratory capacity nationwide to enable the provision of quality laboratory services.

Summary of the Award:

Recipient: Ethiopian Public Health Institute (EPHI).

Purpose of the Award: The purpose of this award is to address gaps identified in national HIV laboratory and surveillance systems and pave the way for HIV epidemic control in Ethiopia.

Amount of Award: The approximate year 1 funding amount will be $12,000,000 in Federal Fiscal Year (FFY) 2023 funds, subject to the availability of funds. Funding amounts for years 2-5 will be set at continuation.

Period of Performance: September 30,2023 through September 29, 2028.

Authority: This program is authorized under Public Law 108-25 (the United States Leadership Against HIV AIDS, Tuberculosis and Malaria Act of 2003).

Dated: March 16, 2023.
Terrance Perry,
Chief Grants Management Officer, Centers for Disease Control and Prevention.

[FR Doc. 2023-05822 Filed 3-21-23; 8:45 am]

BILLING CODE 4163-18-P